FEDERAL ELECTION COMMISSION

11 CFR Part 1

[Notice 2024-07]

ZIP Code Correction; Technical Amendment

AGENCY: Federal Election Commission.

ACTION: Final rule.

SUMMARY: The Federal Election Commission is correcting its mailing address as set forth in its regulations, to clarify the correct ZIP Code to use for certain purposes.

DATES: This rule effective date is March 20, 2024.

FOR FURTHER INFORMATION CONTACT: Ms. Joanna S. Waldstreicher, Attorney, or Mr. Robert M. Knop, Assistant General Counsel, (202) 694-1650 or (800) 424-9530.

SUPPLEMENTARY INFORMATION: The Commission is amending its regulation at 11 CFR 1.2, defining “Commission,” to clarify that different ZIP Codes must be used for the Commission's address for certain purposes. For all uses, the Commission's street address is 1050 First Street NE, Washington, DC. For purposes of U.S. Postal Service delivery, the Commission's ZIP Code is 20463. For purposes of physical location as well as for all other deliveries, including by courier or by private delivery service such as FedEx or UPS, the Commission's ZIP Code is 20002.

The Commission is promulgating this amendment without advance notice or an opportunity for comment because it falls under the “good cause” exemption of the Administrative Procedure Act. 5 U.S.C. 553(b)(B). The Commission finds that notice and comment are unnecessary here because this amendment is merely technical; it effects no substantive changes to any rule. For the same reason, this amendment falls within the “good cause” exception to the delayed effective date provisions of the Administrative Procedure Act and the Congressional Review Act. 5 U.S.C. 553(d)(3), 808(2). Moreover, because this amendment is exempt from the notice and comment procedure of the Administrative Procedure Act under 5 U.S.C. 553(b), the Commission is not required to conduct a regulatory flexibility analysis under 5 U.S.C. 603 or 604. See 5 U.S.C. 601(2), 604(a). Nor is the Commission required to submit this amendment for congressional review under the Federal Election Campaign Act of 1971, as amended, the Presidential Election Campaign Fund Act, as amended, or the Presidential Primary Matching Payment Account Act, as amended. See 52 U.S.C. 30111(d)(1), (4) (providing for congressional review when Commission “prescribe[s]” a “rule of law”); 26 U.S.C. 9009(c)(1), (4), 9039(c)(1), (4) (same).

List of Subjects in 11 CFR Part 1

Privacy.

For the reasons set out in the preamble, the Federal Election Commission amends 11 CFR part 1 as follows:

PART 1—PRIVACY ACT

1. The authority citation for part 1 continues to read as follows:

Authority: 5 U.S.C. 552a.

2. Amend § 1.2 by revising the definition for “Commission” to read as follows:

§ 1.2 Definitions.

* * * * *

Commission means the Federal Election Commission, its Commissioners and employees. For purposes of U.S. Postal Service delivery, the Commission's address is 1050 First Street NE, Washington, DC 20463. For purposes of physical location as well as for all other deliveries, including by courier or by private delivery service such as FedEx or UPS, the Commission's address is 1050 First Street NE, Washington, DC 20002. The Commission's website is www.fec.gov.

* * * * *

Dated: March 14, 2024.
On behalf of the Commission,
Sean J. Cooksey,
Chairman, Federal Election Commission.

[FR Doc. 2024-05829 Filed 3-19-24; 8:45 am]

BILLING CODE 6715-01-P